SURFACE TRANSPORTATION BOARD

[Docket No. AB 279 (Sub-No. 7X)]

Canadian National Railway Company—Discontinuance of Trackage Rights Exemption—in St. Lawrence and Franklin Counties, N.Y.

Canadian National Railway Company (CNR), a Class I rail carrier, has filed a verified notice of exemption under 49 CFR part 1152 subpart F—Exempt Abandonments and Discontinuances of Service to discontinue approximately 22.3 miles of limited local and overhead trackage rights on a line of railroad owned by CSX Transportation, Inc. (CSXT), extending from milepost 160.8 in Massena, N.Y., to milepost 183.1 at the U.S.-Canadian border near Fort Covington, N.Y., in St. Lawrence and Franklin Counties, N.Y. (the Line).¹ The Line traverses U.S. Postal Service Zip Codes 12937, 12914, 13613, and 13662.

¹ The Line is among those lines currently proposed to be acquired by an affiliate of CNR. See Bessemer & Lake Erie R.R.—Acquis. & Operation—Certain Rail Lines of CSX Transp., Inc. in Onondaga, Oswego, Jefferson, St. Lawrence & Franklin Ctys., N.Y., Docket No. FD 36347. CNR certifies that it has served its verified notice on all parties of record in that acquisition proceeding.

CNR has certified that: (1) No local traffic has moved over the Line for at least two years via CNR's trackage rights; (2) any overhead traffic handled by CNR on the Line could be rerouted over other lines; (3) no formal complaint filed by a user of CNR rail service on the Line (or by a state or local government entity acting on behalf of such user) regarding cessation of service on the Line is pending either with the Surface Transportation Board (Board) or with any U.S. District Court or has been decided in favor of complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) ² to subsidize continued rail service has been received, this exemption will be effective on April 25, 2020, unless stayed pending reconsideration.³ Petitions to stay that do not involve environmental issues must be filed by April 3, 2020, and formal expressions of intent to file an OFA to subsidize continued rail service under 49 CFR 1152.27(c)(2) ⁴ must be filed by April 6, 2020.⁵ Petitions to reopen must be filed by April 15, 2020, with the Surface Transportation Board, 395 E Street SW, Washington, DC 20423-0001. A copy of any petition filed with the Board should be sent to CNR's representative, Thomas J. Litwiler, Fletcher & Sippel LLC, 29 North Wacker Drive, Suite 800, Chicago, IL 60606-3208.

² Persons interested in submitting an OFA to subsidize continued rail service must first file a formal expression of intent to file an offer indicating the intent to file an OFA for subsidy and demonstrating that they are preliminarily financially responsible. See 49 CFR 1152.27(c)(2)(i).

³ CNR states that it intends to consummate the discontinuance of its trackage rights on the Line on April 26, 2020, or upon consummation of the transaction proposed in Docket No. FD 36347, whichever is later.

⁴ The filing fee for OFAs can be found at 49 CFR 1002.2(f)(25).

⁵ Because this is a discontinuance proceeding and not an abandonment, interim trail use/rail banking and public use conditions are not appropriate. Because there will be an environmental review during abandonment, this discontinuance does not require an environmental review.

If the verified notice contains false or misleading information, the exemption is void ab initio.

Board decisions and notices are available at www.stb.gov.

Decided: March 23, 2020.
By the Board, Allison C. Davis, Director, Office of Proceedings.
Kenyatta Clay,
Clearance Clerk.

[FR Doc. 2020-06349 Filed 3-25-20; 8:45 am]

BILLING CODE 4915-01-P